ENVIRONMENTAL PROTECTION AGENCY

[FRL-7481-6]

Office of Research and Development; Board of Scientific Counselors, Executive Committee Meeting

AGENCY: Environmental Protection Agency (EPA).

ACTION: Notice of meeting.

SUMMARY: The Board of Scientific Counselors for the U.S. EPA has convened a Communications ad hoc subcommittee to examine how effectively EPA Office of Research and Development (ORD) funded research results are currently communicated, both within and beyond the agency, and how they might be more effectively communicated. The immediate goal of the subcommittee effort is to help EPA/ORD more effectively disseminate ORD's research products, to explain their significance, and to assist others inside and outside the agency in applying them. To this end, on May 15, 2003, the BOSC meeting will include two sessions devoted to communication of research results. The morning session will include presentations from ORD labs and centers of a handful of their best practices in this regard. The afternoon session will include presentations of best practices from a small sample of other organizations and agencies. Both sessions will include discussions of related communications issues, including (but not limited to) defining communication goals, audience identification, criteria for evaluating efforts to communicate research results, and factors that affect their success.

DATES: On Thursday, May 15, the meeting will begin at 8 a.m. and recess at 5:30 p.m. and on Friday, May 16, 2003, the meeting will reconvene at 8:30 a.m. and will adjourn at approximately 3:30 p.m. All times noted are eastern time.

ADDRESSES: The Meeting will be held at the Lowe's L'Enfant Plaza Hotel, 480 L'Enfant Plaza, SW., Washington, DC 20024.

SUPPLEMENTARY INFORMATION: Anyone desiring a draft BOSC agenda may fax their request to Shirley R Hamilton (202) 565-2444. The meeting is open to the public. Any member of the public wishing to make a presentation at the meeting should contact Shirley Hamilton, Designated Federal Officer, Office of Research and Development (8701R), 1200 Pennsylvania Avenue, NW., Washington, DC 20460; or by telephone at (202) 564-6853. In general, each individual making an oral presentation will be limited to a total of three minutes.

FOR FURTHER INFORMATION CONTACT: Shirley R. Hamilton, Designated Federal Officer, U.S. Environmental Protection Agency, Office of Research and Development, National Center for Environmental Research (MC 8701R), 1200 Pennsylvania Avenue, NW., Washington, DC 20460, (202) 564-6853.

Dated: April 4, 2003.
John C. Puzak,
Acting Director, National Center for Environmental Research.

[FR Doc. 03-8952 Filed 4-10-03; 8:45 am]

BILLING CODE 6560-50-P